DEPARTMENT OF HOUSING AND URBAN DEVELOPMENT

[Docket No. FR-5681-N-38]

Federal Property Suitable as Facilities to Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, Room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202) 720-8873; Army: Ms. Veronica Rines, Office of the Assistant Chief of Staff for Installation Management, Department of Army, Room 5A128, 600 Army Pentagon, Washington, DC 20310, (571) 256-8145; COE: Mr. Scott Whiteford, Army Corps of Engineers, Real Estate, CEMP-CR, 441 G Street NW., Washington, DC 20314; (202) 761-5542; GSA: Mr. Flavio Peres, General Services Administration, Office of Real Property Utilization and Disposal, 1800 F Street NW., Room 7040 Washington, DC 20405, (202) 501-0084; Interior: Mr. Michael Wright, Acquisition & Property Management, Department of the Interior, MS-4262, 1849 C Street, Washington, DC, 20240, (202) 513-0795; Navy: Mr. Steve Matteo, Department of the Navy, Asset Management Division, Naval Facilities Engineering Command, Washington Navy Yard, 1330 Patterson Ave. SW., Suite 1000, Washington, DC 20374; (202) 685-9426; (These are not toll-free numbers).

Dated: September 12, 2013.
Mark Johnston,
Deputy Assistant Secretary for Special Needs.

Title V, Federal Surplus Property Program Federal Register Report for 09/20/2013

Suitable/Available Properties

Building

Arizona

Beaver Reservoir Operational Facility

2256/2258 N. 2nd Street

Rogers AZ 72756

Landholding Agency: COE

Property Number: 31201330006

Status: Unutilized

Directions: 2256 (1,750 sq. ft.); 2258 (1,430 sq. ft.)

Comments: Off-site removal only; no future agency use; residential; fair conditions; contact COE for more info.

California

22 Buildings

Hwy. 101, Bldg. 109

Camp Roberts CA 93451

Landholding Agency: Army

Property Number: 21201330019

Status: Excess

Directions: 00902, 00936, 01019, 06079, 06080, 06125, 06320, 14212, 14308, 14801, 25012, 25013, 27108, 27110, 27126, RB001, RB003, RB004, RB005, RB006, RB007, RB043

Comments: CORRECTION: Bldg. 14801 incorrectly published on 08/30/2013; off-site removal only; 6+ months vacant; poor conditions; contamination; secured area; contact Army for info.

7 Buildings

Sierra Army Depot

Herlong CA 96113

Landholding Agency: Army

Property Number: 21201330067

Status: Unutilized

Directions: 00478, 00548, 00681, 00682, 00683, 00684, and 00685

Comments: Sf. varies 36-204 + months vacant; fair to deteriorate; secured area; extensive background check required; contact Army for info. on a specific property & accessibility reqs.

4 Buildings

Marine Corps Air Ground Combat

Twentynine Palms

San Bernardino CA 92278

Landholding Agency: Navy

Property Number: 77201330030

Status: Excess

Directions: 5771 (2,046 sq. ft.); 2175 (756 sq. ft.); 5174 (1,200 sq.); 2175 (756 sq. ft.)

Comments: Off-site removal only; 77-66 yrs.-old, extensive repairs needed; contamination; secured area; contact Navy for more info.

Minnesota

Kawishiwi Ranger Station

1393 Highway 169

Ely MN 55731

Landholding Agency: Agriculture

Property Number: 15201330034

Status: Excess

Comments: 6x8′; toilet; need repairs; contact Agriculture for more info.

Washington

Dry Falls Junction; Cafe

Columbia Basin Project

Ephrata Field Office

Coulee City WA

Landholding Agency: Interior

Property Number: 61201330048

Status: Excess

Comments: Off-site removal only; 4,455 total sq. ft.; restaurant; 36+ months vacant; renovations a must; contamination; contact Interior for more info.

Dry Falls Junction-Mini Mart

Columbia Basin Project

Ephrata Field Office

Coulee City WA

Landholding Agency: Interior

Property Number: 61201330049

Status: Excess

Comments: Off-site removal only; 1,675 sq. ft.; gas station/mini-mart; 36+ months vacant; renovations a must; contact Interior for more info.

Suitable Unavailable Properties

Building

Michigan

Nat'l Weather Svc Ofc

214 West 14th Ave.

Sault Ste. Marie MI

Landholding Agency: GSA

Property Number: 54200120010

Status: Excess

GSA Number: 1-C-MI-802

Comments: 2230 sq. ft., presence of asbestos, most recent use—office

New Jersey

Portion of Former Sievers-

Sandberg US Army Reserves Center—Tract 1

NW Side of Artillery Ave. at Rte. 130

Oldmans NJ 08067

Landholding Agency: GSA

Property Number: 54201320015

Status: Surplus

GSA Number: 1-D-NJ-0662-AA

Directions: Previously reported under 54200740005 as suitable/available; 16 bldgs. usage varies: barracks/med./warehouses/garages; property is being parceled.

Comments: 87,011 sf.; 10+ yrs. vacant fair/poor conditions; property may be landlocked; transferee may need to request access from Oldmans Township planning & zoning comm.; contact GSA for more info.

Unsuitable Properties

Building

California

2 Building

Sharpe Site

Lathrop CA 95231

Landholding Agency: Army

Property Number: 21201330071

Status: Unutilized

Directions: 170 and 199

Comments: Public access denied and no alternative method to gain access w/out compromising nat'l security.

Reasons: Secured Area

Building 179

Sharpe Site

Lathrop CA 95231

Landholding Agency: Army

Property Number: 21201330072

Status: Unutilized

Directions: 179

Comments: Public access denied and no alternative method to gain access w/out compromising nat'l security.

Reasons: Secured Area

Portion of OT3 at Old Town Cam

Naval Base Point Loma

San Diego CA 92110

Landholding Agency: Navy

Property Number: 77201330029

Status: Underutilized

Comments: Facility w/in controlled perimeter of a DoD installation; public access denied & no alternative method to gain access w/out compromising nat'l security.

Reasons: Secured Area

North Dakota

Grand Forks Human Nutrition

Research Center

2405 University Avenue

Grand Forks ND 58203

Landholding Agency: Agriculture

Property Number: 15201330033

Status: Excess

Directions: 54500B002, Building 2 (RPUID: 03.55407)

Comments: Documented deficiencies; severely damage in the 1997 red river flood; foundation service unsound; collapsed roof; chimney collapsed into kitchen

Reasons: Extensive deterioration

Tennessee

J0139

Milan AAP

Milan TN 38358

Landholding Agency: Army

Property Number: 21201330073

Status: Unutilized

Comments: Restricted area; public access denied & no alternative method to gain access is/out compromising nat'l security

Reasons: Secured Area

[FR Doc. 2013-22584 Filed 9-19-13; 8:45 am]

BILLING CODE 4210-67-P